DEPARTMENT OF TRANSPORTATION

Federal Highway Administration

Environmental Impact Statement: Grand Forks County, North Dakota and Polk County, Minnesota

AGENCY: Federal Highway Administration (FHWA), DOT.

ACTION: Notice of intent.

SUMMARY: The FHWA is issuing this notice to advise the public that an environmental impact statement will be prepared for a proposed highway project in Grand Forks County, North Dakota and Polk County, Minnesota.

FOR FURTHER INFORMATION CONTACT: Mark Schrader, Environment and Right-of-Way Engineer, Federal Highway Administration, North Dakota Division Office, 1471 Interstate Loop, Bismarck, North Dakota 58503, Telephone: (701) 221-9464. Sheri G. Lares, Environmental Section Leader, North Dakota Department of Transportation, 608 E. Boulevard Avenue, Bismarck, North Dakota 58505-0700, Telephone: (701) 328-2188.

SUPPLEMENTARY INFORMATION: The FHWA, in cooperation with the North Dakota and Minnesota Departments of Transportation, will prepare an environmental impact statement (EIS) on a proposal to rehabilitate or replace the historic Sorlie Bridge over the Red River between Grand Forks, North Dakota and East Grand Forks, Minnesota.

Preliminary alternatives currently under consideration include (1) Taking no action to rehabilitate or replace the historic bridge; (2) rehabilitating the bridge on the existing alignment; (3) removal of the bridge and constructing a new bridge on the existing alignment; (4) rehabilitating the bridge and constructing a new bridge on new alignment; and (5) removal of the bridge and constructing a new bridge on new alignment.

Letters describing the proposed action and soliciting comments will be sent to appropriate Federal, State, regional and local agencies, and to private organizations and citizens who previously have expressed, or are known to have, an interest in this project. Two public scoping meetings will be held during the 60 day scoping period. There will be one held in Grand Forks on June 12, 2013 at the City Hall from 5 p.m. until 8 p.m., and the other in East Grand Forks on June 13, 2013 from 5 p.m. until 8 p.m. Locations of the public scoping meetings for the proposed project will be advertised in local newspapers and other media and will be hosted by the North Dakota and Minnesota Departments of Transportation.

To ensure that the full range of issues related to this proposed action are addressed and all significant issues identified, comments and suggestions are invited from all interested parties. Comments or questions concerning this proposed action and the EIS should be directed to the FHWA at the address provided above.

(Catalog of Federal Domestic Assistance Program Number 20.205, Highway Research, Planning, and Construction. The regulations implementing Executive Order 12372 regarding intergovernmental consultation on Federal programs and activities apply to this program.)

Issued on: May 13, 2013.
Wendall L. Meyer,
Division Administrator, Federal Highway Administration, North Dakota Division Office.

[FR Doc. 2013-11779 Filed 5-16-13; 8:45 am]

BILLING CODE 4910-22-P